DEPARTMENT OF LABOR

Bureau of Labor Statistics

Information Collection Activities; Comment Request

AGENCY: Bureau of Labor Statistics, Department of Labor.

ACTION: Notice of information collection, request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “The Consumer Expenditure Surveys: The Quarterly Interview and the Diary.” A copy of the proposed information collection request can be obtained by contacting the individual listed below in the Addresses section of this notice.

DATES: Written comments must be submitted to the office listed in the Addresses section of this notice on or before November 17, 2023.

ADDRESSES: Send comments to Nora Kincaid, BLS Clearance Officer, Division of Management Systems, Bureau of Labor Statistics, Room G225, 2 Massachusetts Avenue NE, Washington, DC 20212. Written comments also may be transmitted by email to BLS_PRA_Public@bls.gov.

FOR FURTHER INFORMATION CONTACT: Nora Kincaid, BLS Clearance Officer, at 202-691-7628 (this is not a toll-free number). (See ADDRESSES section.)

SUPPLEMENTARY INFORMATION:

I. Background

The Consumer Expenditure (CE) Surveys collect data on consumer expenditures, demographic information, and related data needed by the Consumer Price Index (CPI) and other public and private data users. The continuing surveys provide a constant measurement of changes in consumer expenditure patterns for economic analysis and to obtain data for future CPI revisions. The CE Surveys have been ongoing since 1979.

The data from the CE Surveys are used (1) for CPI revisions, (2) to provide a continuous flow of data on income and expenditure patterns for use in economic analysis and policy formulation, and (3) to provide a flexible consumer survey vehicle that is available for use by other Federal Government agencies. Public and private users of price statistics, including Congress and the economic policymaking agencies of the Executive branch, rely on data collected in the CPI in their day-to-day activities. Hence, data users and policymakers widely accept the need to improve the process used for revising the CPI. If the CE Surveys were not conducted on a continuing basis, current information necessary for more timely, as well as more accurate, updating of the CPI would not be available. In addition, data would not be available to respond to the continuing demand from the public and private sectors for current information on consumer spending.

In the Quarterly Interview Survey, each consumer unit (CU) in the sample is interviewed every three months over four calendar quarters. The sample for each quarter is divided into three panels, with CUs being interviewed every three months in the same panel of every quarter. The Quarterly Interview Survey is designed to collect data on the types of expenditures that respondents can be expected to recall for a period of three months or longer. In general the expenses reported in the Interview Survey are either relatively large, such as property, automobiles, or major appliances, or are expenses which occur on a fairly regular basis, such as rent, utility bills, or insurance premiums.

The Diary (or recordkeeping) Survey is completed at home by the respondent family for two consecutive one-week periods. The primary objective of the Diary Survey is to obtain expenditure data on small, frequently purchased items which normally are difficult to recall over longer periods of time.

II. Current Action

Office of Management and Budget clearance is being sought to continue the Consumer Expenditure Surveys: The Quarterly Interview (CEQ) and the Diary (CED) and to make modifications to both.

In the CEQ, as part of CE's ongoing effort to streamline the questionnaire, CE requests clearance to make the following modifications to the Computer Assisted Personal Interview (CAPI) instrument: rewording items to make collection easier cognitively, grouping similar items together, aggregating collection of items previously collected separately, and eliminating several questions. Specifically, the changes will include the following:

A new `Household Services' section groups question on the items that were asked across the interview survey including termite/pest control, gardening/lawn care, water softening, septic tank cleaning, housekeeping, home security system fees, moving/storage/freight, heating or air conditioning contracts, home warranties/maintenance/service contracts on household appliances, and other home services or repair jobs.

For the `Owned Properties' section, the list of items included in payments was simplified, and questions regarding why a payment amount changed were added, including related questions for additional principal/interest, and late/other fees. For the `Utilities' section, the list of phone/cable/internet expenses was consolidated, and questions about breaking out cable/internet fees from a bundled bill are no longer asked. The `Medical expenditures' section was also consolidated, reworded, and reordered.

The CE also requests clearance for minor changes to both the CED CAPI Instrument and the Diary form. Changes to the CAPI instrument include consolidating the grocery questions to one question and adding a question to give respondents the option of reporting online or by paper diary. Changes to the Diary form include adding instructions to include delivery fees for `Meals Away from Home' in addition to tax and tip. We also request approval for adding help videos for respondents who choose to use the online diary to report their diary expenditures.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: The Consumer Expenditure Surveys: The Quarterly Interview and the Diary.

OMB Number: 1220-0050.

Type of Review: Revision.

Affected Public: Individuals or Households.

Form | Total respondents | Frequency | Total responses | Average time per response | Estimated total burden
CEQ—Interview | 4,600 | 4 | 18,400 | 63 | 19,320
CEQ—Reinterview | 2,208 | 1 | 2,208 | 10 | 368
CED—Diary Record-keeping | 6,200 | 2 | 12,400 | 60 | 12,400
CED—Diary Interview | 6,200 | 2 | 12,400 | 19 | 3,927
CED Diary Reinterview | 1,240 | 1 | 1,240 | 10 | 207
Totals | 10,800 |  | 46,648 |  | 36,222

Comments submitted in response to this notice will be summarized and/or included in the request for Office of Management and Budget approval of the information collection request; they also will become a matter of public record.

Signed at Washington, DC, on this 12th day of September 2023.
Eric Molina,
Acting Chief, Division of Management Systems.

[FR Doc. 2023-20095 Filed 9-15-23; 8:45 am]

BILLING CODE 4510-24-P